DEPARTMENT OF THE INTERIOR

Fish and Wildlife Service

Environmental Analysis and Notice of Public Scoping Meeting Related to the San Luis Valley Regional Habitat Conservation Plan

AGENCY: Fish and Wildlife Service, Interior.

ACTION: Notice of intent; notice of public scoping meeting.

SUMMARY: Pursuant to the National Environmental Policy Act (NEPA) the U.S. Fish and Wildlife Service (Service) advises the public that we intend to gather information necessary to prepare a NEPA document and determine whether to prepare an Environmental Assessment (EA) or Environmental Impact Statement (EIS) for a proposed habitat conservation plan (HCP) that is being prepared by the Rio Grande Water Conservation District (District) on behalf of Alamosa, Conejos, Costilla, Rio Grande, and Saguache Counties (five counties). The proposed HCP is being prepared in support of an application for an incidental take permit (ITP) pursuant to section 10(a)(1)(B) of the Endangered Species Act of 1973, as amended (ESA). The District intends to apply for an ITP, through development and implementation of the San Luis Valley Regional Habitat Conservation Plan (HCP), as required by the ESA. The HCP will provide measures to minimize and mitigate the impacts of the proposed actions, which might result in take of federally listed species.

We provide this notice to:

(1) Advise other Federal and State agencies, affected tribes, and the public of our intent to prepare a NEPA document;

(2) Announce the initiation of a public scoping period; and

(3) Obtain suggestions and information on the scope of issues and alternatives to be considered in the scoping process.

DATES: Oral and written comments will be accepted at a public scoping meeting held on Thursday, January 13, 2005, from 6:30 to 8:30 p.m. Written comments from all interested parties must be postmarked by January 28, 2005.

ADDRESSES: The public meeting will be held at the Alamosa County Courthouse at 702 4th Street in Alamosa, Colorado. Information, written comments, or questions related to the preparation of the EA or EIS and the NEPA process should be submitted to Mr. Allan Pfister, Western Colorado Supervisor, U.S. Fish and Wildlife Service, 764 Horizon Drive, Building B, Grand Junction, Colorado 81506-3946; or FAX (970) 245-6933.

FOR FURTHER INFORMATION CONTACT: Terry Ireland at the above Grand Junction address, or at (970) 243-2778.

SUPPLEMENTARY INFORMATION:

Reasonable Accommodation

Persons needing reasonable accommodations in order to attend and participate in the public meeting should contact Terry Ireland of the Grand Junction Field Office at (970) 243-2778 as soon as possible. In order to allow sufficient time to process requests, please call no later than 1 week before the public meeting. Information regarding this proposed action is available in alternative formats upon request.

Background

Federal agencies are required to conduct NEPA (42 U.S.C. 4321, et seq.) analyses of their proposed actions to determine if the actions may affect the human environment. The Service anticipates that the District will request an ITP. Therefore, we are seeking public input on the scope of NEPA analysis required, including the range of reasonable alternatives and the associated impacts of those alternatives.

Section 9 of the ESA and its implementing Federal regulations prohibit “take” of species listed as threatened and endangered. Take is defined under the ESA to include actions that harass, harm, pursue, hunt, shoot, wound, kill, trap, capture, or collect, or attempt to engage in any such conduct (16 U.S.C. 1538). Harm includes significant habitat modifications or degradation where it actually kills or injures wildlife by significantly impairing behavioral patterns such as breeding, feeding, or sheltering (50 CFR 17.3(c)). Under limited circumstances, the Service may issue permits to take listed species incidental to, and not the purpose of, carrying out otherwise lawful activities. Section 10(a)(1)(B) of the ESA and regulations at 50 CFR 17.32 contain provisions for issuing ITPs to non-Federal entities for the take of listed species, provided the Service determines the following criteria are met:

1. The taking will be incidental;

2. The applicant will, to the maximum extent practicable, minimize and mitigate the impacts of such take;

3. The applicant will develop an HCP and ensure that adequate funding for the HCP will be provided;

4. The take will not appreciably reduce the likelihood of the survival and recovery of the species in the wild; and

5. Any other measures that the Service may require as being necessary or appropriate for the purposes of the HCP to be met.

The Habitat Conservation Plan

The District is administering development of a regional HCP on behalf of the five counties that comprise the San Luis Valley—Alamosa, Conejos, Costilla, Rio Grande, and Saguache Counties. Within the San Luis Valley, certain agricultural and other economic activities could inadvertently harm the endangered southwestern willow flycatcher (Epidonax traillii extimus) (flycatcher) and other listed bird species, and would be subject to regulation by the Service if there were a Federal nexus or take involved in the activity. These activities include operation, maintenance, and construction of diversions, ditches, canals, roads, bridges and utility lines; livestock grazing and agricultural practices; tamarisk and noxious weed control; and floodplain maintenance near towns and cities. Rather than seek ESA compliance for these activities on a case-by-case basis, the District will prepare a single, regional conservation plan that will be more efficient and effective in providing for the long-term protection and conservation of the flycatcher and other listed bird species and their habitat while allowing for the continuation of agricultural and other economic activities in the San Luis Valley.

The District intends to apply for an incidental take permit for the flycatcher, bald eagle (Halieeatus leucocephalus), and yellow-billed cuckoo (Coccyzus americanus). The District also may seek to cover other rare and/or sensitive species that may be affected by the identified activities in the San Luis Valley. The ITP would become effective for unlisted species, such as the yellow-billed cuckoo, that are adequately covered by the HCP upon listing of such species as threatened or endangered by the Service. Other species for which the District is not seeking permit coverage also may benefit from the conservation measures provided in the HCP.

After receipt of the District's permit application and draft HCP, the Service will publish a notice of availability and request for comment. The draft HCP is planned for release in July 2005.

Environmental Review

The Service and the District are proposing to conduct an environmental review of the proposed issuance of an ITP and the associated proposed HCP and to prepare an environmental document to assess potential impacts related to the ecosystem and the human environment. The District will administer development and coordinate implementation of the HCP, as required by section 10(a)(1)(B) of the ESA. The HCP will provide measures to minimize and mitigate the impacts of the proposed take of listed species and reduce impacts to the habitat upon which they depend.

The environmental review will consider the proposed action, no action (i.e., no permit issuance), a reasonable range of alternatives, and the associated impacts of each alternative. A detailed description of the proposed action and alternatives (including no action) will be included in the environmental document. We anticipate that several alternatives will be developed, which may vary by the level of impacts caused by the proposed activities, their specific locations, and the conservation measures involved.

The NEPA document will identify potentially significant direct, indirect, and cumulative impacts on biological resources, land use, air quality, water quality, water resources, economics, and other environmental issues that could occur with the implementation of the Service's proposed actions and alternatives. For all potentially significant impacts, the NEPA document will identify avoidance, minimization, and mitigation measures to reduce these impacts where feasible, to a level below significance.

The Service will conduct the proposed environmental review in accordance with the requirements of NEPA, its implementing regulations, other appropriate Federal laws and regulations, and policies and procedures of the Service for compliance with those regulations. We are publishing this notice in accordance with section 1501.7 of the NEPA regulations to obtain suggestions and information from other agencies and the public on the scope of issues and alternatives to be addressed in the environmental document. The primary purpose of the scoping process is to identify, rather than to debate, significant issues related to the proposed action. We invite comments and suggestions from all interested parties to ensure that a reasonable range of alternatives is addressed and that all potentially significant issues are identified. All comments received, including names and addresses, will become part of the official administrative record and may be made available to the public. We will fully consider all comments received during the comment period.

Dated: December 16, 2004.
Richard A. Coleman,
Acting Deputy Regional Director, Denver, Colorado.

[FR Doc. 05-324 Filed 1-6-05; 8:45 am]

BILLING CODE 4310-55-P